DEPARTMENT OF ENERGY

Federal Energy Regulatory Commission

[Docket No. CP04-54-001]

ANR Storage Company; Notice of Compliance Filing

June 9, 2004.

Take notice that on May 28, 2004, ANR Storage Company (ANR Storage) tendered for filing, as part of its FERC Gas Tariff, Original Volume No. 1 and Original Volume No. 2, the following tariff sheets proposed to become effective April 1, 2004:

Original Volume No. 1

Second Revised Sheet No. 1A

Original Volume No. 2

Fifth Revised Sheet No. 1

First Revised Sheet No. 229

ANR Storage states that the above-referenced tariff sheets are being filed to cancel ANR Storage's Rate Schedule X-11 as approved by Commission order issued on March 3, 2004.

ANR Storage states that copies of its filing have been mailed to each of its customers and affected state regulatory commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1352 Filed 6-16-04; 8:45 am]

BILLING CODE 6717-01-P